DEPARTMENT OF ENERGY

Federal Energy Regulatory Commission

[Project No. 13135-002]

City of Watervliet; Notice of Preliminary Permit Application Accepted for Filing and Soliciting Comments, Motions To Intervene, and Competing Applications

On July 1, 2011, the City of Watervliet filed an application for a successive preliminary permit, pursuant to section 4(f) of the Federal Power Act (FPA), proposing to study the feasibility of the Delta Hydroelectric Project to be located at Delta Dam on the Mohawk River in Oneida County, New York. The sole purpose of a preliminary permit, if issued, is to grant the permit holder priority to file a license application during the permit term. A preliminary permit does not authorize the permit holder to perform any land-disturbing activities or otherwise enter upon lands or waters owned by others without the owners' express permission.

The proposed project would consist of: (1) The existing 1,016-foot-long, 76-foot-high Delta Dam, owned by the New York State Canal Corporation, (2) an existing impoundment having a surface area of 2,700 acres and a storage capacity of 63,200 acre-feet and normal water surface elevation of 550 feet mean sea level, (3) a proposed powerhouse containing two generating units with a total installed capacity of 5.0 megawatts, (4) a proposed 17,000-foot-long, 13.2-kilovolt underground generator lead, and (5) appurtenant facilities. The project would have an annual generation of 14.1 gigawatt hours.

Applicant Contact: Mark Gleason, General Manager, City of Watervliet, City Hall, Watervliet, NY 12189; phone: (518) 270-3800.

FERC Contact: Monir Chowdhury; phone: (202) 502-6736.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-13135-002) in the docket number field to access the document. For assistance, contact FERC Online Support.

Dated: August 1, 2011.
Kimberly D. Bose,
Secretary.

[FR Doc. 2011-19941 Filed 8-4-11; 8:45 am]

BILLING CODE 6717-01-P